DEPARTMENT OF TRANSPORTATION

Federal Aviation Administration

14 CFR Part 39

[Docket No. FAA-2008-0342; Directorate Identifier 2007-NM-305-AD; Amendment 39-15706; AD 2008-22-10]

RIN 2120-AA64

Airworthiness Directives; Airbus Model A318, A319, A320, and A321 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

During planned maintenance visit on one A320 aircraft, a cross connection of the fire extinguishing circuit system was identified. In case of fire, this cross connection will activate (discharge) the wrong forward or aft cargo compartment fire extinguisher bottle.

Failure to activate the correct bottle when required is classified as potentially catastrophic.

* * * * *

We are issuing this AD to require actions to correct the unsafe condition on these products.

DATES: This AD becomes effective December 19, 2008.

The Director of the Federal Register approved the incorporation by reference of a certain publication listed in this AD as of December 19, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION:

Discussion

We issued a notice of proposed rulemaking (NPRM) to amend 14 CFR part 39 to include an AD that would apply to the specified products. That NPRM was published in the Federal Register on March 25, 2008 (73 FR 15681). That NPRM proposed to correct an unsafe condition for the specified products. The MCAI states:

During planned maintenance visit on one A320 aircraft, a cross connection of the fire extinguishing circuit system was identified. In case of fire, this cross connection will activate (discharge) the wrong forward or aft cargo compartment fire extinguisher bottle.

Failure to activate the correct bottle when required is classified as potentially catastrophic.

For the reasons described above, this AD requires a one-time inspection and check of the cargo firing circuit continuity to confirm the correct connection of the dedicated wires between the discharge pushbutton switches and the relevant cargo bottle.

Corrective action includes modifying the wiring connection on plug 1505VC-A. You may obtain further information by examining the MCAI in the AD docket.

Comments

We gave the public the opportunity to participate in developing this AD. We considered the comment received.

Request To Revise Applicability

Northwest Airlines (NWA) requests that we revise the applicability of the NPRM to state that the AD applies only to those airplanes produced before February 28, 2007 that have fewer than 8,000 total flight hours and that have not had Airbus A318/A319/A320/A321 Maintenance Review Board Report (MRBR) Task 26.23.00/03 and 26.23.00/07, or Airbus Service Bulletin A320-26A1068, dated March 19, 2007, accomplished.

We disagree that the applicability needs to be clarified. Paragraph (c), “Applicability,” of the NPRM already excludes airplanes on which the MRBR tasks have been performed. Paragraph (f), “Actions and Compliance,” gives credit for airplanes on which the service bulletin has been accomplished before the effective date of this AD. These exclusions are valid no matter the number of total flight hours on the airplane. We have not changed the AD in this regard.

Clarifications of the AD

We have clarified the applicability to include a reference to the German standard airworthiness certificate or original German export certificate of airworthiness. The applicability of the NPRM referred only to the French standard airworthiness certificate or original French export certificate of airworthiness. Some of the airplanes affected by this AD were produced in Germany.

We have removed the reference to Airbus A318/A319/A320/A321 MRBR Task 26.23.00/03 or 26.23.00/07 in paragraph (f) of this AD to be consistent with FAA policy and Office of the Federal Register regulations. We may consider approving the use of Airbus A318/A319/A320/A321 MRBR Task 26.23.00/03 or 26.23.00/07 as an alternative method of compliance with this AD, as provided by paragraph (g)(1) of this AD.

Conclusion

We reviewed the available data, including the comment received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 679 products of U.S. registry. We also estimate that it will take about 6 work-hours per product to comply with the basic requirements of this AD. The average labor rate is $80 per work-hour. Based on these figures, we estimate the cost of this AD to the U.S. operators to be $325,920, or $480 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-22-10 Airbus: Amendment 39-15706. Docket No. FAA-2008-0342; Directorate Identifier 2007-NM-305-AD.

Effective Date

(a) This airworthiness directive (AD) becomes effective December 19, 2008.

Affected ADs

(b) None.

Applicability

(c) This AD applies to Airbus Model A318, A319, A320, and A321 series airplanes, certificated in any category, all certified models; all serial numbers which have received an original French or German (as applicable) standard airworthiness certificate or original French or German (as applicable) export certificate of airworthiness prior to February 28, 2007, and have been fitted with a cargo compartment fire extinguisher bottle installed in production, or in service by an Airbus service bulletin; except airplanes on which Airbus A318/A319/A320/A321 Maintenance Review Board Report (MRBR) Task 26.23.00/03 or 26.23.00/07 has been performed.

Subject

(d) Air Transport Association (ATA) of America Code 26: Fire Protection.

Reason

(e) The mandatory continuing airworthiness information (MCAI) states:

During planned maintenance visit on one A320 aircraft, a cross connection of the fire extinguishing circuit system was identified. In case of fire, this cross connection will activate (discharge) the wrong forward or aft cargo compartment fire extinguisher bottle.

Failure to activate the correct bottle when required is classified as potentially catastrophic.

For the reasons described above, this AD requires a one-time inspection and check of the cargo firing circuit continuity to confirm the correct connection of the dedicated wires between the discharge pushbutton switches and the relevant cargo bottle.

Corrective action includes modifying the wiring connection on plug 1505VC-A.

Actions and Compliance

(f) Within 600 flight hours after the effective date of this AD, unless already done, perform the inspection and continuity check of the cargo firing circuit and, before next flight, do applicable corrective actions, in accordance with the Accomplishment Instructions of Airbus Mandatory Service Bulletin A320-26A1068, Revision 01, dated July 19, 2007. Actions done before the effective date of this AD in accordance with Airbus Service Bulletin A320-26A1068, dated March 19, 2007, are considered acceptable for compliance with the requirements of this AD.

FAA AD Differences

Note 1: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tim Dulin, Aerospace Engineer, International Branch, ANM-116, Transport Airplane Directorate, FAA, 1601 Lind Avenue, SW., Renton, Washington 98057-3356; telephone (425) 227-2141; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency (EASA) Airworthiness Directive 2007-0249, dated September 24, 2007; and Airbus Mandatory Service Bulletin A320-26A1068, Revision 01, dated July 19, 2007; for related information.

Material Incorporated by Reference

(i) You must use Airbus Mandatory Service Bulletin A320-26A1068, Revision 01, excluding Appendix 01, dated July 19, 2007, to do the actions required by this AD, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France; telephone +33 5 61 93 33 33; Internet http://www.airbus.com.

(3) You may review copies at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Issued in Renton, Washington, on October 9, 2008.
Ali Bahrami,
Manager, Transport Airplane Directorate, Aircraft Certification Service.

[FR Doc. E8-25640 Filed 11-13-08; 8:45 am]

BILLING CODE 4910-13-P